ENVIRONMENTAL PROTECTION AGENCY

40 CFR Part 80

[EPA-HQ-OAR-2005-0161; FRL-8745-2]

RIN 2060-AO80

Regulation of Fuels and Fuel Additives: Modifications to Renewable Fuel Standard Program Requirements

AGENCY: Environmental Protection Agency (EPA).

ACTION: Partial withdrawal of direct final rule.

SUMMARY: Because EPA received adverse comment, we are withdrawing several provisions of the direct final rule to amend the Renewable Fuel Standard program requirements, published on October 2, 2008.

DATES: Effective November 26, 2008, EPA withdraws the amendments to 40 CFR 80.1129(b)(1), 80.1129(b)(4), 80.1129(b)(8), 80.1131(a)(8), and 80.1131(b)(4) published at 73 FR 57248 on October 2, 2008.

FOR FURTHER INFORMATION CONTACT: Megan Brachtl, Compliance and Innovative Strategies Division, Office of Transportation and Air Quality (Mail Code: 6406J), Environmental Protection Agency, 1200 Pennsylvania Avenue, NW., 20460; telephone number: (202) 343-9473; fax number: (202) 343-2802; e-mail address: brachtl.megan@epa.gov.

SUPPLEMENTARY INFORMATION: Because EPA received adverse comment, we are withdrawing several provisions of the direct final rule to amend the Renewable Fuel Standard program requirements, published on October 2, 2008. We stated in that direct final rule that if we received adverse comment by November 3, 2008, the portions of the direct final rule on which adverse comments were received would not take effect, and we would publish a timely withdrawal of such portions of the direct final rule in the Federal Register. We subsequently received adverse comments on the following provisions: The amendments to 40 CFR 80.1129(b)(1) and 80.1129(b)(8) (providing that a party with a small refinery or small refiner exemption may only separate RINs that have been assigned to a volume of renewable fuel that the party blends into motor vehicle fuel), 40 CFR 80.1129(b)(4) (providing that any party may separate the RINs from renewable fuel that it produces or markets for use in motor vehicles in neat form, or uses in motor vehicles in neat form), and 40 CFR 80.1131(a)(8) and 80.1131(b)(4) (changing the location in the RFS regulations of a provision stating that a RIN that is transferred to two or more parties is considered an invalid RIN). Because EPA received adverse comments, we are withdrawing these provisions.

EPA published a parallel proposed rule on the same day as the direct final rule. The proposed rule invited comment on the substance of the direct final rule. We will address the comments received on the portions of the direct final rule being withdrawn today in a subsequent final action based on the parallel proposed rule also published on October 2, 2008 (73 FR 57274). As stated in the parallel proposal, we will not institute a second comment period on this proposed action. The provisions for which we did not receive adverse comment will become effective on December 1, 2008, as provided in the October 2, 2008, direct final rule.

Dated: November 20, 2008.
Stephen L. Johnson,
Administrator.

Accordingly, the amendments to 40 CFR 80.1129(b)(1), 80.1129(b)(4), 80.1129(b)(8), 80.1131(a)(8), and 80.1131(b)(4) published on October 2, 2008 (73 FR 57248) are withdrawn as of November 26, 2008.

[FR Doc. E8-28125 Filed 11-25-08; 8:45 am]

BILLING CODE 6560-50-P